DEPARTMENT OF TRANSPORTATION

Federal Aviation Administration

Public Notice for Release of Aeronautical Property at New Castle Airport (ILG), New Castle, DE

AGENCY: Federal Aviation Administration, Department of Transportation.

ACTION: Request for public comment.

SUMMARY: The Federal Aviation Administration (FAA) is requesting public comment on the Delaware River and Bay Authority's (DRBA) request to grant the Delaware Department of Transportation a permanent easement on 2.424 +/− acres of airport property along portions of Old Churchman's Road bordering a portion of the Airport property perimeter for roadway improvements. The 2.424 +/− acres land covered by the purposed easement will no longer be dedicated for aviation use by the New Castle Airport.

The DRBA, as operator of the New Castle Airport (ILG), has proposed the extension of Taxiway “H” and the development of an approximate thirty-eight (38) acre parcel of airport property on the southeasterly side of Old Churchman's Road for aviation related purposes. The Thirty-Eight Acre Parcel is currently undeveloped and separated from the main airport property by Old Churchman's Road. In order to gain connectivity and access to the Thirty-Eight Acre Parcel and allow for the extension of Taxiway “H” and future development, 0.610 +/− acres of Old Churchman's Road must be vacated by the Delaware Department of Transportation and returned to New Castle County as fee owner for aeronautical use. Once the 0.610+/− acres of Old Churchman's Road is vacated, future road improvements to include, but not limited to, the upgrade of Old Churchman's Road from Route 13 to the easterly boundary of the Thirty-Eight Acre Parcel, the construction of a public road connecting Old Churchman's Road and New Churchman's Road at the eastern boundary of the Thirty-Eight Acre Parcel, and the construction of certain improvements along New Churchman's Road can be made on the proposed 2.424 +/− acre easement area. This will allow Delaware Department of Transportation to bring portions of Old Churchman's Road up to standards and accommodate a new connector from Old Churchman's Road to New Churchman's Road.

The 2.424 +/− acre parcel is located at New Castle Airport (ILG), New Castle, DE, situated northwesterly of Dupont Highway, U.S. Route 13 and northeasterly of New Churchman's Road, Delaware State Road 58, New Castle Hundred, New Castle County, Delaware. The parcel is comprised of several small, narrow, Right-of-Way easement “strips” totaling 2.424 +/− acres in aggregate and is generally located along Old Churchman's Road commencing at Route 13 and running in a westerly direction to the easterly property line of the Thirty-Eight Acre Parcel. The property is currently depicted on the Airport Layout Plan (ALP) of record as airport property and consists of five sections of narrow strips of land varying 1.272 acres to 0.054 acres. The strips of land are parts of Tax Parcel No. 10-018.00-006. These areas, totaling 2.424 +/−, acres are not required for aeronautical use and can be used for road improvements.

DATES: Comments must be received on or before March 12, 2012.

ADDRESSES: Documents are available for review, by appointment, at the Airport Manager's office: Stephen Williams, Airport Executive Director, Delaware River and Bay Authority, New Castle Airport, 151 Dupont Highway, New Castle, DE 19720-5124, 302-325-5124; and at the FAA Harrisburg Airports District Office: James M. Fels, Program Manager, Harrisburg Airports District Office, 3905 Hartzdale Dr., Suite 508, Camp Hill, PA 17011, (717) 730-2830.

FOR FURTHER INFORMATION CONTACT: James M. Fels, Program Manager, Harrisburg Airports District Office (location listed above).

SUPPLEMENTARY INFORMATION: The Levy Court of New Castle County acquired the property that constitutes the Airport through a conveyance from the United States of America, acting through and by the War Assets Administration on October 27, 1947. This conveyance transferred to New Castle County land to be used for aviation related purposes. Over the years, portions of the original land have been released by New Castle County and Federal Aviation Administration actions. In 1995, under agreement with New Castle County, the Delaware River and Bay Authority assumed sponsorship and operational control of the airport. There are no known adverse impacts to the operation of the airport and the 2.424 +/− acre area of land is not needed for any foreseeable future aeronautical development as shown on the approved New Castle ALP. Ownership will be retained by New Castle County.

Section 22.16 of FAA Order 5190.6B, FAA Airport Compliance Manual, requires fair market value be received for all deletions from the airport's federally obligated real property. Intangible benefits received by the airport may be used as an offset against any such fair market value in determining the monetary consideration, if any, to be exchanged. The fee simple property value of the 2.424 +/− acre area is estimated at $55,000.00+/− per acre, or $133,320.00. The value of an easement would be substantially less. The ability to expand Taxiway “H” and to develop the Thirty-Eight Acre Parcel for aviation purposes has the potential to generate an estimated $885,000.00 per year in lease revenue based on a 71.3 percent lease ratio of the property per the current Airport Layout Plan. Since the intangible benefits to the airport would far exceed the fee simple fair market value of the property, no monetary payment for the easement would be required.

Interested persons are invited to comment on the proposed change in use of the property. All comments will be considered by the FAA to the extent practicable.

Issued in Camp Hill, Pennsylvania on February 1, 2012.
Lori K. Pagnanelli,
Manager, Harrisburg Airports District Office.

[FR Doc. 2012-3148 Filed 2-9-12; 8:45 am]

BILLING CODE 4910-13-P